DEPARTMENT OF ENERGY

Federal Energy Regulatory Commission

[Project No. P-14558-000]

KC Lake Hydro LLC; Notice of Preliminary Permit Application Accepted for Filing and Soliciting Comments, Motions To Intervene, and Competing Applications

On October 4, 2013, KC Lake Hydro LLC filed an application for a preliminary permit, pursuant to section 4(f) of the Federal Power Act (FPA), proposing to study the feasibility of the North Hadley Lake Warner Dam Hydropower Project (project) to be located at the outlet of Lake Warner, on the Miller River, near the Town of North Hadley, Hampshire County, Massachusetts. The sole purpose of a preliminary permit, if issued, is to grant the permit holder priority to file a license application during the permit term. A preliminary permit does not authorize the permit holder to perform any land-disturbing activities or otherwise enter upon lands or waters owned by others without the owners' express permission.

The proposed project would consist of: (1) The existing 82-foot-long, 15-foot-high, concrete gravity Lake Warner dam; (2) an existing 70-acre impoundment with a normal maximum water surface elevation of 128 feet above mean sea level; (3) a new 30.6-foot-long, 10.4-foot-diameter conduit structure; (4) a new 20-foot-long, 20-foot-wide powerhouse containing a single turbine generator unit with an installed capacity of 100.8 kilowatts; (5) a new 100-foot-long, 21-kilovolt transmission line; and (6) appurtenant facilities. The project would have an estimated average annual energy generation of 500 megawatt-hours. The dam is owned and operated by the Kestrel Land Trust. There are no federal lands associated with the project.

Applicant Contact: Ms. Kelly Sackheim, Principal, KC Lake Hydro LLC, 5096 Cocoa Palm Way, Fair Oaks, California 95628; phone: (301) 401-5978.

FERC Contact: Michael Watts; phone: (202) 502-6123; email: michael.watts@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14558-000.

More information about this project, including a copy of the application, can be viewed or printed on the “eLibrary” link of Commission's Web site at http://www.ferc.gov/docs-filing/elibrary.asp. Enter the docket number (P-14558) in the docket number field to access the document. For assistance, contact FERC Online Support.

Dated: April 9, 2014.
Kimberly D. Bose,
Secretary.

[FR Doc. 2014-08494 Filed 4-14-14; 8:45 am]

BILLING CODE 6717-01-P